DEPARTMENT OF DEFENSE

Office of the Secretary

[Docket ID: DoD-2023-HA-0104]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 19, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Restructure or Realignment of Military Medical Treatment Facilities; OMB Control Number 0720-RMTF.

Needs and Uses: The National Defense Authorization Act for Fiscal Year (FY) 2017 (NDAA FY 2017—Pub. L. 114-328), Section 703 “Military Medical Treatment Facilities” states that there shall be an update on the study (i.e., a report) from the 2015 Military Health System Modernization Study that addresses the realignment or restructuring of military medical treatment facilities (MTFs). As part of the report on the implementation plan to restructure or realign all MTFs, this survey will provide valuable data on TRICARE beneficiary's experience with the transition from receiving their care at an MTF to now receiving care in the private-sector with a network provider/facility.

The collection of this information will be from TRICARE Prime enrollees empaneled at MTFs undergoing MTF restructuring as a result of NDAA FY 2017, Section 703. The survey will be given two times, the first iteration given two weeks after transition to collect immediate information regarding the transition and access to care experience; a second survey will be released six months after transition to review progress. These TRICARE Prime enrollees will be responding to questions relating to how their transition from the MTF to either a Network (private-sector care) primary care manager (PCM) or TRICARE Select resulted. This information will assist the DHA with assessing this restructuring effort as well as future efforts to ensure beneficiaries receive high-quality care. Specifically, survey findings will show what problems beneficiaries faced during the transition from their MTF PCM to a network PCM, details on access to care now with a network PCM, satisfaction with their new network PCM, and communications about the transition overall.

Affected Public: Individuals or households.

Annual Burden Hours: 17,700.

Number of Respondents: 53,100.

Responses per Respondent: 2.

Annual Responses: 106,200.

Average Burden per Response: 10 minutes.

Frequency: On occasion.

Dated: October 16, 2023.
Aaron T. Siegel,
Alternate OSD Federal Register Liaison Officer, Department of Defense.

[FR Doc. 2023-23143 Filed 10-19-23; 8:45 am]

BILLING CODE 6001-FR-P